DEPARTMENT OF HOMELAND SECURITY

Coast Guard

[USCG-2005-22077]

Navigation Safety Advisory Council

AGENCY: Coast Guard, DHS.

ACTION: Notice of meetings.

SUMMARY: The Navigation Safety Advisory Council (NAVSAC) will meet as required to discuss various issues relating to the safety of navigation. The meeting will be open to the public.

DATES: NAVSAC will meet on Wednesday, September 7, 2005, from 8:30 a.m. to 4 p.m.; Thursday, September 8, 2005, from 8:30 a.m. to 4 p.m.; and Friday, September 9, 2005, from 8:30 a.m. to 1 p.m. The meetings may close early if all business is finished. Written material for and requests to make oral presentations at the meeting should reach the Coast Guard on or before August 21, 2005. Requests to have a copy of your material distributed to each member of the Committee or working groups prior to the meeting should reach the Coast Guard on or before August 21, 2005.

ADDRESSES: NAVSAC will meet in the Marriott Crystal Gateway Hotel, 1700 Jefferson Davis Highway, Arlington, VA 22202. Send written material and requests to make oral presentations to Mr. John Bobb, Commandant (G-MW), U.S. Coast Guard Headquarters, G-MW, Room 1406, 2100 Second Street SW., Washington, DC 20593-0001. This notice and related documents are available on the Internet at http://dms.dot.gov.

FOR FURTHER INFORMATION CONTACT: Mr. John Bobb, Executive Secretary, telephone 202-267-2384, fax 202-267-4700, or e-mail at: jbobb@comdt.uscg.mil.

SUPPLEMENTARY INFORMATION: Notice of these meetings is given under the Federal Advisory Committee Act, 5 U.S.C. App. 2 (Pub. L. 92-463, 86 Stat. 770, as amended).

Agenda of Committee Meeting

The agenda includes the following items to be discussed:

(1) Regulated Navigation Areas and Security Zones.

(2) Enhanced Loran.

(3) Right Whale Proposed Regulations.

(4) Navigation Bridge Visibility.

(5) Report on the initial meeting of the Committee on the Maritime Transportation System.

(6) Report on Automatic Identification Systems.

(7) Report of Electronic Charting Systems and Electronic Charting Display Information Systems.

Procedural

All meetings are open to the public. Please note that the meetings may close early if all business is finished. At the chairs discretion, members of the public may make oral presentations during the meetings. If you would like to make an oral presentation at the meeting, please notify the Executive Secretary no later than August 21, 2005. Written material for distribution at a meeting should reach the Coast Guard no later than August 21, 2005. If you would like a copy of your material distributed to each member of the Committee or Working Groups in advance of a meeting, please submit 20 copies to the Executive Secretary no later than August 21, 2005. You may also submit this material electronically to the e-mail address in FOR FURTHER INFORMATION CONTACT, no later than August 21, 2005.

Information on Services for Individuals With Disabilities

For information on facilities or services for individuals with disabilities or to request special assistance at the meetings, contact Executive Secretary as soon as possible.

Dated: August 8, 2005.
R.J. Petow,
Captain, U.S. Coast Guard, Acting Director of Standards, Marine Safety, Security and Environmental Protection.

[FR Doc. 05-16151 Filed 8-15-05; 8:45 am]

BILLING CODE 4910-15-P